DEPARTMENT OF COMMERCE

National Oceanic and Atmospheric Administration

[RTID 0648-XA833]

Mid-Atlantic Fishery Management Council (MAFMC); Public Hearings

AGENCY: National Marine Fisheries Service (NMFS), National Oceanic and Atmospheric Administration (NOAA), Commerce.

ACTION: Notice of public hearings; request for comments.

SUMMARY: The Mid-Atlantic Fishery Management Council (Council) and the Atlantic States Marine Fisheries Commission (Commission) will hold five public hearings via webinar and a written comment period to solicit public comments on a developing management action to consider potential changes to the allocation of total catch or landings between the commercial and recreational summer flounder, scup, and black sea bass fisheries.

DATES: The webinar hearings will be held between February 17 and March 2, 2021. Each hearing will take place from 6 p.m. to 8 p.m. EST. Written comments must be received on or before 11:59 p.m. EST, March 16, 2021. See SUPPLEMENTARY INFORMATION for more details, including the dates and times for all hearings.

ADDRESSES: All hearings will be hosted through GoToWebinar. You must use GoToWebinar to speak during the hearings. A listen-only call in option is also available. Participants will not be able to speak through the listen-only phone connection. To access any of the webinar hearings, please follow the registration prompts at https://attendee.gotowebinar.com/rt/1218348356340238349. To attend the webinar in listen only mode without the ability to speak, you may dial 1-877-309-2074 and enter access code 128-060-916.

A public hearing document with more information on this action is available at: https://www.mafmc.org/actions/sfsbsb-allocation-amendment. Copies of the document are also available by request from Dr. Chris Moore, Executive Director, Mid-Atlantic Fishery Management Council, 800 N State Street, Suite 201, Dover, DE 19901; telephone: (302) 674-2331.

Public comments: Written comments may be sent by any of the following methods:

• Email to: kdancy@mafmc.org (subject: “Summer Flounder, Scup, Sea Bass Allocation Amendment”).

• Via webform at: https://www.mafmc.org/comments/sfsbsb-allocation-amendment.

• Mail to: Chris Moore, Ph.D., Executive Director, Mid-Atlantic Fishery Management Council, 800 North State Street, Suite 201, Dover, DE 19901. Mark the outside of the envelope “Summer Flounder, Scup, Sea Bass Allocation Amendment.”

• Fax to: 302.674.5399 (subject: “Summer Flounder, Scup, Sea Bass Allocation Amendment”).

FOR FURTHER INFORMATION CONTACT: Christopher M. Moore, Ph.D., Executive Director, Mid-Atlantic Fishery Management Council, telephone: (302) 526-5255.

SUPPLEMENTARY INFORMATION: The Council and the Commission are developing a joint action to consider adjusting the allocations of catch or landings between the commercial and recreational fisheries for summer flounder, scup, and black sea bass. The commercial and recreational allocations for all three species are currently based on historical proportions of landings (for summer flounder and black sea bass) or catch (for scup) from each sector. The current allocations were set in the mid-1990s and have not been revised since that time. Recent changes in how recreational catch is estimated have resulted in a discrepancy between the current levels of estimated recreational harvest and the allocations of summer flounder, scup, and black sea bass to the recreational sector. This action will consider whether modifications to the allocations are needed in light of these and other changes in the fisheries. This action will also consider the option to transfer a portion of the allowable landings each year between the commercial and recreational sectors, in either direction, based on the needs of each sector, and consider whether future additional modifications to the commercial/recreational allocations and/or transfer provisions can be considered through a future FMP addendum/framework action, as opposed to an amendment. Additional information on this action is available at: https://www.mafmc.org/actions/sfsbsb-allocation-amendment.

The dates and times of the five webinar hearings are listed below. You are encouraged to participate in the hearing for your state or region; however, all hearings are open to all individuals.

1. Massachusetts and Rhode Island: Wednesday, February 17, 2021; 6-8 p.m. EST.

2. New Jersey: Thursday, February 18, 2021; 6-8 p.m. EST.

3. Delaware and Maryland: Wednesday, February 24, 2021; 6-8 p.m. EST.

4. Virginia and North Carolina: Monday, March 1, 2021; 6-8 p.m. EST.

5. Connecticut and New York: Tuesday, March 2, 2021; 6-8 p.m. EST.

Special Accommodations

These hearings are physically accessible to people with disabilities. Requests for sign language interpretation or other auxiliary aids should be directed to Kathy Collins at the Mid-Atlantic Council Office, (302) 526-5253, at least 5 days prior to the hearing date.

Authority: 16 U.S.C. 101 et seq.

Dated: January 25, 2021.
Rey Israel Marquez,
Acting Deputy Director, Office of Sustainable Fisheries, National Marine Fisheries Service.

[FR Doc. 2021-01944 Filed 1-28-21; 8:45 am]

BILLING CODE 3510-22-P